DEPARTMENT OF HOUSING AND URBAN DEVELOPMENT

[Docket No. FR-5030-FA-04]

Announcement of Funding Awards for the Rural Housing and Economic Development Program Fiscal Year 2006

AGENCY: Office of the Assistant Secretary for Community Planning and Development, HUD.

ACTION: Notice of funding awards.

SUMMARY: In accordance with section 102 (a)(4)(C) of the Department of Housing and Urban Development Reform Act of 1989, this announcement notifies the public of funding decisions made by the Department in a competition for funding under the Notice of Funding Availability (NOFA) for the Rural Housing and Economic Development Program. This announcement contains the names of the awardees and the amounts of the awards.

FOR FURTHER INFORMATION CONTACT: Jackie L. Williams, Ph.D., Director, Office of Rural Housing and Economic Development, Office of Community Planning and Development, 451 Seventh Street, SW., Room 7137, Washington, DC 20410-7000; telephone (202) 708-2290 (this is not a toll-free number). Hearing- and speech-impaired persons may access this number via TTY by calling the Federal Relay Service toll-free at (800) 877-8339. For general information on this and other HUD programs, call Community Connections at (800) 998-9999 or visit the HUD Web site at http://www.hud.gov.

SUPPLEMENTARY INFORMATION: The Rural Housing and Economic Development program was authorized by the Department of Veterans Affairs, Housing and Urban Development and Independent Agencies Appropriations Act of 1999. The competition was announced in the NOFA published March 8, 2006 (71 FR 11903). Applications were rated and selected for funding on the basis of selection criteria contained in that notice.

The Catalog of Federal Domestic Assistance number for this program is 14.250.

The Rural Housing and Economic Development Program is designed to build capacity at the State and local level for rural housing and economic development and to support innovative housing and economic development activities in rural areas. Eligible applicants are local rural non-profit organizations, community development corporations, federally recognized Indian tribes, state housing finance agencies, and State community and/or economic development agencies. The funds made available under this program were awarded competitively, through a selection process conducted by HUD.

For the Fiscal Year 2006 competition, a total of $16,800,000 was awarded to 56 projects nationwide.

In accordance with section 102(a)(4)(C) of the Department of Housing and Urban Development Reform Act of 1989 (103 Stat. 1987, 42 U.S.C. 3545), the Department is publishing the grantees and amounts of the awards in Appendix A to this document.

Dated: February 22, 2007.
Nelson R. Bregón,
General Deputy Assistant Secretary for Community Planning and Development.

Appendix A—Fiscal Year 2006 Funding Awards for Rural Housing and Economic Development Program

Recipient | City | State | Award
Rural Alaska Community Action Program, Inc | Anchorage | AK | 300,000
Chilkot Indian Association | Haines | AK | 300,000
Asa'carsarmiut Tribal Council | Mountain Village | AK | 300,000
Organized Village of Kasaan | Ketchikan | AK | 300,000
Hale Empowerment and Revitalization Organization | Greensboro, | AL | 300,000
Volunteers of America Southeast, Inc. | Mobile | AL | 300,000
International Sonoran Desert Alliance | Ajo | AZ | 300,000
Elfrida Citizens' Alliance | Elfrida | AZ | 300,000
West Fresno Coalition for Economic Development | Fresno | CA | 300,000
Relational Culture Institute | Fresno | CA | 300,000
Shingle Springs Rancheria | Shingle Springs | CA | 300,000
Better Opportunities Builders, Inc. | Fresno | CA | 300,000
Bear River Band of Rohnerville Rancheria | Loteta | CA | 300,000
Huerfano/Las Aminas Area COG | Trinidad | CO | 300,000
Everglades Community Association | Florida | FL | 300,000
Southwest Georgia United Empowerment Zone, Inc | Vienna | GA | 300,000
Area Committee to Improve Opportunities, NOW | Athens | GA | 300,000
CDC of Southwest Georgia | Colquitt | GA | 300,000
Youthbuild McLean County | Bloomington | IL | 300,000
Shawnee Development Council, Inc. | Karnak | IL | 300,000
Purchase Area Housing Corporation | Mayfield | KY | 300,000
Passamaquoddy Development and Supply, Co | Parry | ME | 300,000
Community Action Agency of South Central Michigan | Battle Creek | MI | 300,000
Little River Band of Ottawa Indians | Manistee | MI | 300,000
Mid-Delta Empowerment Zone Alliance | Itta Bena | MS | 300,000
Fort Peck Assiniboini and Sioux Tribes | Poplar | MT | 300,000
The Heritage Institute | Glasgow | MT | 300,000
Omaha Tribe of Nebraska | Macy | NE | 300,000
Santee Sioux Tribe of Nebraska | Niobrara | NE | 300,000
Ho-Chunk Community Development Corporation | Walthill | NE | 300,000
Navajo Partnership for Housing, Inc. | Gallup | NM | 300,000
Native American Lending Group, Inc. | Albuquerque | NM | 300,000
Eastern Plains Housing Development Corporation | Clovis | NM | 300,000
ACCION, New Mexico | Alburquerque | NM | 300,000
The Dona Anna County Colonias Development Council | Las Cruces | NM | 300,000
Pueblo of Picuris | Penasco | NM | 300,000
Pueblo De San Lidefonso | Sante Fe | NM | 300,000
Pueblo of Pojoaque | Sante Fe | NM | 300,000
Fallon Paiute Shoshone Tribe | Fallon | NV | 300,000
Cortland Housing Assistance Council, Inc. | Cortland | NY | 300,000
Haliwa-Saponi Indian Tribe | Hollister | NC | 300,000
Turtle Mountain Band of Chippewa Indians | Belcourt | ND | 300,000
Northeast South Dakota Community Action Program | Sisseton | SD | 300,000
Oglala Sioux Tribe Partnership for Housing | Pine Ridge | SD | 300,000
The Lakota Fund | Kyle | SD | 300,000
Buffalo Valley, Inc. | Hohewald | TN | 300,000
Creative Compassion, Inc. | Crossville | TN | 300,000
West Tennessee Legal Services, Inc. | Jackson | TN | 300,000
Community Development Corporation of Brownsville | Brownsville | TX | 300,000
El Paso Empowerment Zone Corporation | El Paso | TX | 300,000
Community Development Corporation Of South Texas | McAllen | TX | 300,000
Organizacion Progresiva de San Elizario | San Elizario | TX | 300,000
Proyecto Azteca | San Juan | TX | 300,000
Willacy County Industrial Foundation, Inc. | Raymondville | TX | 300,000
Southern Appalachian Labor School | Kincaid | WV | 300,000
Stop Abusive Family Environments, Inc. | Welch | WV | 300,000

[FR Doc. E7-4880 Filed 3-16-07; 8:45 am]

BILLING CODE 4210-67-P